DEPARTMENT OF ENERGY

Federal Energy Regulatory Commission

Combined Notice of Filings #1

Take notice that the Commission received the following electric corporate filings:

Docket Numbers: EC24-39-000.

Applicants: Cambria Wind LLC.

Description: Application for Authorization Under Section 203 of the Federal Power Act of Cambria Wind LLC.

Filed Date: 1/12/24.

Accession Number: 20240112-5197.

Comment Date: 5 p.m. ET 2/2/24.

Docket Numbers: EC24-40-000.

Applicants: Mulligan Solar, LLC, Great Pathfinder Wind, LLC, ERG US Holdings, Inc.

Description: Joint Application for Authorization Under Section 203 of the Federal Power Act of Mulligan Solar, LLC, et al.

Filed Date: 1/16/24.

Accession Number: 20240116-5088.

Comment Date: 5 p.m. ET 2/6/24.

Take notice that the Commission received the following electric rate filings:

Docket Numbers: ER24-228-002.

Applicants: South Cheyenne Solar, LLC.

Description: Report Filing: Supplement to MBR Authority Application Filing to be effective N/A.

Filed Date: 1/11/24.

Accession Number: 20240111-5143.

Comment Date: 5 p.m. ET 1/22/24.

Docket Numbers: ER24-374-001.

Applicants: PJM Interconnection, L.L.C.

Description: Tariff Amendment: Deficiency Response—FTR Bilateral Agreement Reform to be effective 6/30/2024.

Filed Date: 1/16/24.

Accession Number: 20240116-5190.

Comment Date: 5 p.m. ET 2/6/24.

Docket Numbers: ER24-793-001.

Applicants: Entergy Texas, Inc.

Description: Tariff Amendment: ETI-ETEC First Revised Coordination Services Agreement to be effective 2/27/2024.

Filed Date: 1/16/24.

Accession Number: 20240116-5050.

Comment Date: 5 p.m. ET 2/6/24.

Docket Numbers: ER24-796-001.

Applicants: Entergy Texas, Inc.

Description: Tariff Amendment: ETI-ETEC Second Revised LBA Agreement to be effective 2/27/2024.

Filed Date: 1/16/24.

Accession Number: 20240116-5056.

Comment Date: 5 p.m. ET 2/6/24.

Docket Numbers: ER24-805-001.

Applicants: Entergy Arkansas, LLC.

Description: Tariff Amendment: Updated LBA Agreement to be effective 3/2/2024.

Filed Date: 1/16/24.

Accession Number: 20240116-5199.

Comment Date: 5 p.m. ET 2/6/24.

Docket Numbers: ER24-875-000.

Applicants: Midcontinent Independent System Operator, Inc., Duke Energy Indiana, LLC

Description: § 205(d) Rate Filing: Midcontinent Independent System Operator, Inc. submits tariff filing per 35.13(a)(2)(iii: 2024-01-16_SA 3646 Termination of DEI-Hardy Hills Substitute E&P (J1063) to be effective 3/17/2024.

Filed Date: 1/16/24.

Accession Number: 20240116-5083.

Comment Date: 5 p.m. ET 2/6/24.

Docket Numbers: ER24-876-000.

Applicants: KMC Thermo, LLC.

Description: Compliance filing: Tariff Revisions to be effective 1/17/2024.

Filed Date: 1/16/24.

Accession Number: 20240116-5105.

Comment Date: 5 p.m. ET 2/6/24.

Docket Numbers: ER24-877-000.

Applicants: Maricopa West Solar PV, LLC.

Description: Compliance filing: Tariff Revisions to be effective 1/17/2024.

Filed Date: 1/16/24.

Accession Number: 20240116-5112.

Comment Date: 5 p.m. ET 2/6/24.

Docket Numbers: ER24-878-000.

Applicants: Marina Energy, LLC.

Description: Compliance filing: Tariff Revisions to be effective 1/17/2024.

Filed Date: 1/16/24.

Accession Number: 20240116-5113.

Comment Date: 5 p.m. ET 2/6/24.

Docket Numbers: ER24-879-000.

Applicants: Mesquite Power, LLC.

Description: Compliance filing: Tariff Revisions to be effective 1/17/2024.

Filed Date: 1/16/24.

Accession Number: 20240116-5115.

Comment Date: 5 p.m. ET 2/6/24.

Docket Numbers: ER24-880-000.

Applicants: MS Solar 3, LLC.

Description: Compliance filing: Tariff Revisions to be effective 1/17/2024.

Filed Date: 1/16/24.

Accession Number: 20240116-5116.

Comment Date: 5 p.m. ET 2/6/24.

Docket Numbers: ER24-881-000.

Applicants: Mulberry Farm, LLC.

Description: Compliance filing: Tariff Revisions to be effective 1/17/2024.

Filed Date: 1/16/24.

Accession Number: 20240116-5118.

Comment Date: 5 p.m. ET 2/6/24.

Docket Numbers: ER24-882-000.

Applicants: Palouse Wind, LLC.

Description: Compliance filing: Tariff Revisions to be effective 1/17/2024.

Filed Date: 1/16/24.

Accession Number: 20240116-5120.

Comment Date: 5 p.m. ET 2/6/24.

Docket Numbers: ER24-883-000.

Applicants: Pavant Solar LLC.

Description: Compliance filing: Tariff Revisions to be effective 1/17/2024.

Filed Date: 1/16/24.

Accession Number: 20240116-5121.

Comment Date: 5 p.m. ET 2/6/24.

Docket Numbers: ER24-884-000.

Applicants: Pio Pico Energy Center, LLC.

Description: Compliance filing: Tariff Revisions to be effective 1/17/2024.

Filed Date: 1/16/24.

Accession Number: 20240116-5122.

Comment Date: 5 p.m. ET 2/6/24.

Docket Numbers: ER24-885-000.

Applicants: New York Independent System Operator, Inc.

Description: § 205(d) Rate Filing: NYISO 205: Working Capital Fund Rebalancing to be effective 3/17/2024.

Filed Date: 1/16/24.

Accession Number: 20240116-5127.

Comment Date: 5 p.m. ET 2/6/24.

Docket Numbers: ER24-886-000.

Applicants: RE Camelot LLC.

Description: Compliance filing: Tariff Revisions to be effective 1/17/2024.

Filed Date: 1/16/24.

Accession Number: 20240116-5128.

Comment Date: 5 p.m. ET 2/6/24.

Docket Numbers: ER24-887-000.

Applicants: RE Columbia Two LLC.

Description: Compliance filing: Tariff Revisions to be effective 1/17/2024.

Filed Date: 1/16/24.

Accession Number: 20240116-5129.

Comment Date: 5 p.m. ET 2/6/24.

Docket Numbers: ER24-888-000.

Applicants: Selmer Farm, LLC.

Description: Compliance filing: Tariff Revisions to be effective 1/17/2024.

Filed Date: 1/16/24.

Accession Number: 20240116-5131.

Comment Date: 5 p.m. ET 2/6/24.

Docket Numbers: ER24-889-000.

Applicants: Sunflower Wind Project, LLC.

Description: Compliance filing: Tariff Revisions to be effective 1/17/2024.

Filed Date: 1/16/24.

Accession Number: 20240116-5132.

Comment Date: 5 p.m. ET 2/6/24.

Docket Numbers: ER24-890-000.

Applicants: Sweetwater Solar, LLC.

Description: Compliance filing: Tariff Revisions to be effective 1/17/2024.

Filed Date: 1/16/24.

Accession Number: 20240116-5134.

Comment Date: 5 p.m. ET 2/6/24.

Docket Numbers: ER24-891-000.

Applicants: AZ Solar 1, LLC.

Description: Compliance filing: Tariff Revisions to be effective 1/17/2024.

Filed Date: 1/16/24.

Accession Number: 20240116-5135.

Comment Date: 5 p.m. ET 2/6/24.

Take notice that the Commission received the following electric securities filings:

Docket Numbers: ES24-20-000.

Applicants: Consolidated Edison Company of New York, Inc.

Description: Application Under Section 204 of the Federal Power Act for Authorization to Issue Securities of Consolidated Edison Company of New York, Inc.

Filed Date: 1/16/24.

Accession Number: 20240116-5087.

Comment Date: 5 p.m. ET 2/6/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 16, 2024.
Debbie-Anne A. Reese,
Acting Secretary.

[FR Doc. 2024-01147 Filed 1-22-24; 8:45 am]

BILLING CODE 6717-01-P